DEPARTMENT OF LABOR

Employment and Training Administration

[TA-W-53,710]

Southill Industrial Carving Thomasville, NC; Notice of Termination of Investigation

Pursuant to section 221 of the Trade Act of 1974, as amended, an investigation was initiated on December 4, 2003 in response to a petition filed by a company official on behalf of workers at Southill Industrial Carving, Thomasville, North Carolina.

The petitioner has requested that the petition be withdrawn. Consequently, the investigation has been terminated.

Signed at Washington, DC this 21st day of January, 2004.
Linda G. Poole,
Certifying Officer, Division of Trade Adjustment Assistance.

[FR Doc. 04-3570 Filed 2-18-04; 8:45 am]

BILLING CODE 4510-30-P